DEPARTMENT OF HOMELAND SECURITY

Coast Guard

33 CFR Part 117

[Docket No. USCG-2018-0226]

Drawbridge Operation Regulation; Hackensack River, Jersey City, NJ

AGENCY: Coast Guard, DHS.

ACTION: Notice of deviation from drawbridge regulation.

SUMMARY: The Coast Guard has issued a temporary deviation from the operating schedule that governs the Route 1 & 9 (Lincoln Highway) Bridge across the Hackensack River, mile 1.8, at Jersey City, New Jersey. The deviation is necessary to limit and control bridge openings during the reconstruction and rehabilitation of the Pulaski Skyway Bridge.

DATES: This deviation is effective without actual notice from April 9, 2018 through 11:59 p.m. on July 31, 2018. For the purposes of enforcement, actual notice will be used from 12:01 a.m. on April 2, 2018, until April 9, 2018.

ADDRESSES: The docket for this deviation, USCG-2018-0226, is available at http://www.regulations.gov. Type the docket number in the “SEARCH” box and click “SEARCH”. Click on Open Docket Folder on the line associated with this deviation.

FOR FURTHER INFORMATION CONTACT: If you have questions on this temporary deviation, call or email Judy K. Leung-Yee, Bridge Management Specialist, First District Bridge Branch, U.S. Coast Guard; telephone 212-514-4336, email Judy.K.Leung-Yee@uscg.mil.

SUPPLEMENTARY INFORMATION: The owner of the bridge, the New Jersey Department of Transportation, requested a temporary deviation in order to complete the reconstruction and rehabilitation of the adjacent Pulaski Skyway Bridge. The Route 1 & 9 Bridge across the Hackensack River, mile 1.8, at Jersey City, New Jersey is a vertical lift bridge with a vertical clearance of 35 feet at mean high water and 40 feet at mean low water in the closed position. The existing drawbridge operating regulations are listed at 33 CFR 117.5.

This temporary deviation will allow the Route 1 & 9 Bridge to open on signal from April 2, 2018 to July 31, 2018, except that the draw will not open to vessel traffic, Monday through Friday, between 6 a.m. and 9:30 a.m. and between 2:30 p.m. and 6 p.m., except holidays. On Federal holidays, the Route 1 & 9 Bridge will open on signal. Tide dependent deep draft vessels may request bridge openings during the rush hour closure periods, provided that at least a six hour advance notice is given by calling the number posted at the bridge.

The waterway is transited by recreational vessels and commercial vessels. Coordination with waterway users has indicated no objections to the proposed closure of the draw. Vessels able to pass through the bridge in the closed position may do so at any time. There is no alternate route for vessels to pass, but the bridge will be able to open for emergencies. The Coast Guard will also inform the users of the waterways through our Local and Broadcast Notices to Mariners of the change in operating schedule for the bridge so vessel operators may arrange their transits to minimize any impact caused by the temporary deviation.

In accordance with 33 CFR 117.35(e), the drawbridge must return to its regular operating schedule immediately at the end of the effective period of this temporary deviation. This deviation from the operating regulations is authorized under 33 CFR 117.35.

Dated: April 2, 2018.
Christopher J. Bisignano,
Supervisory Bridge Management Specialist, First Coast Guard District.

[FR Doc. 2018-07215 Filed 4-6-18; 8:45 am]

BILLING CODE 9110-04-P